SMALL BUSINESS ADMINISTRATION

[Disaster Declaration #11960 and #11961]

Arkansas Disaster Number AR-00038

AGENCY: U.S. Small Business Administration.

ACTION: Amendment 1.

SUMMARY: This is an amendment of the Presidential declaration of a major disaster for Public Assistance Only for the State of Arkansas (FEMA-1861-DR), dated 12/03/2009.

Incident: Severe Storms, Tornadoes, and Flooding.

Incident Period: 10/29/2009 through 11/08/2009.

DATES: Effective Date: 12/10/2009.

Physical Loan Application Deadline Date: 02/01/2010.

Economic Injury (EIDL) Loan Application Deadline Date: 09/03/2010.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the President's major disaster declaration for Private Non-Profit organizations in the State of Arkansas, dated 12/03/2009, is hereby amended to establish the incident period for this disaster as beginning 10/29/2009 and continuing through 11/08/2009.

All other information in the original declaration remains unchanged.

(Catalog of Federal Domestic Assistance Numbers 59002 and 59008)

James E. Rivera,
Associate Administrator for Disaster Assistance.

[FR Doc. E9-30003 Filed 12-16-09; 8:45 am]

BILLING CODE 8025-01-P